DEPARTMENT OF ENERGY

Federal Energy Regulatory Commission

[Docket No. CP06-32-000]

Maritimes & Northeast Pipeline, L.L.C.; Notice of Petition for a Preliminary Determination

December 9, 2005.

Take notice that on November 16, 2005, Maritimes & Northeast Pipeline, L.L.C. (Maritimes) filed a petition for a preliminary determination pursuant to Rule 207(a)(2) of the Commission's Rules of Practice and Procedure. Maritimes requests that the Commission approve the design for its Phase IV Project on a preliminary basis and, if necessary, find that Portland Natural Gas Transmission System's claim for indemnification is without merit.

Any person desiring to be heard or to protest the petition should file comments, a protest, or a motion to intervene in accordance with the requirements of the Commission's Rules of Practice and Procedure, 18 CFR 385.210, 385.211 and 385.214 on or before December 23, 2005. In determining the appropriate action to take, the Commission will consider all protests and other comments, but only those who file a motion to intervene may become parties to the proceeding.

The application is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The Commission strongly encourages electronic filings of comments, protests, and interventions via the internet in lieu of paper. See 18 CFR 385.2001(a)(1)(iii) and the instructions on the Commission's Web site (http://www.ferc.gov) under the “e-Filing” link.

Magalie R. Salas,
Secretary.

[FR Doc. E5-7425 Filed 12-15-05; 8:45 am]

BILLING CODE 6717-01-P